DEPARTMENT OF HOMELAND SECURITY

Federal Emergency Management Agency

44 CFR Part 67

[Docket ID FEMA-2012-0003]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below for the modified BFEs for each community listed. These modified elevations have been published in newspapers of local circulation and ninety (90) days have elapsed since that publication. The Deputy Associate Administrator for Mitigation has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) Modified | Communities affected
Fremont County, Colorado, and Incorporated Areas
Docket No.: FEMA-B-1194
Abbey Drainageway | Approximately 0.48 mile upstream of the Arkansas River confluence | +5,274 | City of Canon City, Unincorporated Areas of Fremont County.
| Approximately 1,400 feet upstream of Central Avenue | +5,396 |
Fourmile Creek | Approximately 1,280 feet upstream of the Arkansas River confluence | +5,257 | City of Canon City, Unincorporated Areas of Fremont County.
| Approximately 1.39 miles upstream of U.S. Route 50 | +5,361 |
Mudd Gulch | Approximately 1,200 feet upstream of the Arkansas River confluence | +5,239 | City of Canon City, Unincorporated Areas of Fremont County.
| Approximately 0.64 mile upstream of Fourmile Parkway | +5,514 |
Mudd Gulch Split Flow | At the upstream side of the railroad | +5,235 | Unincorporated Areas of Fremont County.
| Approximately 0.67 mile upstream of the Arkansas River confluence | +5,250 |
* National Geodetic Vertical Datum. + North American Vertical Datum. # Depth in feet above ground. ‸ Mean Sea Level, rounded to the nearest 0.1 meter.
ADDRESSES
City of Canon City
Maps are available for inspection at City Hall, 128 Main Street, Canon City, CO 81212.
Unincorporated Areas of Fremont County
Maps are available for inspection at the Fremont County Courthouse, 615 Macon Avenue, Canon City, CO 81212.
Troup County, Georgia, and Incorporated Areas
Docket No.: FEMA-B-1072
Shoal Creek | Approximately 2,800 feet downstream of Hammett Road | +650 | City of LaGrange.
| Approximately 1,500 feet upstream of Hammett Road | +669
* National Geodetic Vertical Datum. + North American Vertical Datum. # Depth in feet above ground. ‸ Mean Sea Level, rounded to the nearest 0.1 meter.
ADDRESSES
City of LaGrange
Maps are available for inspection at City Hall, 200 Ridley Avenue, LaGrange, GA 30240.
Essex County, Massachusetts (All Jurisdictions)
Docket Nos.: FEMA-B-1061 and B-1139
Atlantic Ocean | Along the shoreline, approximately 350 feet east of the end of 55th Street | +18 | City of Newburyport.
| Along the shoreline, approximately 575 feet north of the intersection of Northern Boulevard and 82nd Street | +22
Atlantic Ocean | Along the shoreline, approximately 850 feet east of the intersection of Page Road and Phillips Street | +16 | City of Gloucester, Town of Ipswich, Town of Manchester-by-the-Sea, Town of Marblehead, Town of Nahant, Town of Newbury, Town of Rowley, Town of Swampscott.
| Along the shoreline, approximately 3,000 feet south of the intersection of Lynnway and Nahant Road | +17
Atlantic Ocean | Along the shoreline, approximately 150 feet south of State Beach Road | +12 | Town of Salisbury.
| Along the shoreline, approximately 60 feet east of the intersection of Liberty Street and North End Boulevard | +20
Argilla Brook (backwater effects from Merrimack River) | At the confluence with Johnson Creek | +21 | Town of Groveland.
| Approximately 530 feet upstream of Main Street | +21
Backwater Effects from Harris Brook | From I-93 to 300 feet west of I-93, and from Hampshire Road to 300 feet north of Hampshire Road at the corporate limits | +111 | City of Methuen.
Bartlett Brook | At the confluence with the Merrimack River | +53 | City of Methuen.
| Approximately 700 feet upstream of State Route 113 | +53
Boston Brook | Approximately 2,000 feet downstream of Sharpners Pond Road | +82 | Town of Middleton.
| Approximately 180 feet downstream of Sharpners Pond Road | +84
Castle Neck River (backwater effects from Atlantic Ocean) | Approximately 1.6 miles upstream of the confluence with Ipswich Bay, at the confluence with Hog Island Channel | +9 | Town of Ipswich.
Ipswich River | Approximately 150 feet northeast of the Eastern end of Sargent Street | +38 | City of Beverly.
| Approximately 1,000 feet north of the intersection of Dodge Street and Norwoods Pond Road | +38
Ipswich River | Approximately 800 feet downstream of I-95 | +41 | Town of Middleton.
| Approximately 1,250 feet upstream of I-95 | +41
Jackman Brook (backwater effects from Parker River) | Just upstream of Parish Road | +18 | Town of Georgetown.
| Approximately 50 feet upstream of Parish Road | +18
Johnson Creek (backwater effects from Merrimack River) | At the confluence with the Merrimack River | +21 | Town of Groveland.
| Approximately 900 feet upstream of Main Street | +21
Long Causeway Brook | Approximately 800 feet north of the intersection of State Route 1A and North Edge Road | +21 | Town of Ipswich.
| Approximately 4,500 feet southwest of the intersection of State Route 1A and North Edge Road | +21
Merrimack River | Approximately 100 feet upstream of Groveland Street | +20 | Town of Groveland.
| Approximately 0.67 mile upstream of Groveland Street | +21
Merrimack River | Immediately upstream of I-93 | +52 | City of Methuen.
| Approximately 1.42 mile upstream of the confluence with Fish Brook | +56
Nichols Brook (backwater effects from Ipswich River) | At the confluence with the Ipswich River | +41 | Town of Middleton, Town of Topsfield.
Shawsheen River | Approximately 900 feet east of the intersection of I-495 and State Route 28 | +36 | City of Lawrence, Town of Andover, Town of North Andover.
| Approximately 2,500 feet southwest of Burtt Road and Biotechnology Drive | +77
World End Pond | Approximately 2,500 feet upstream of the confluence with the Ipswich River | +41 | City of Methuen.
| From approximately 1,000 feet north of the intersection of Hayes Street and Pond Street to 2,800 feet north of Hayes Street and Pond Street, and from the end of Argilla Road to 1,300 feet west of Argilla Road at the corporate limits | +116
* National Geodetic Vertical Datum. + North American Vertical Datum. # Depth in feet above ground. ‸ Mean Sea Level, rounded to the nearest 0.1 meter.
ADDRESSES
City of Beverly
Maps are available for inspection at City Hall, 191 Cabot Street, Beverly, MA 01915.
City of Gloucester
Maps are available for inspection at City Hall, 9 Dale Avenue, Gloucester, MA 01930.
City of Lawrence
Maps are available for inspection at City Hall, 200 Common Street, Lawrence, MA 01840.
City of Methuen
Maps are available for inspection at the Searles Building, 41 Pleasant Street, Methuen, MA 01844.
City of Newburyport
Maps are available for inspection at City Hall, 60 Pleasant Street, Newburyport, MA 01950.
Town of Andover
Maps are available for inspection at the Town Offices, 36 Bartlet Street, Andover, MA 01810.
Town of Georgetown
Maps are available for inspection at the Town Hall, 1 Library Street, Georgetown, MA 01833.
Town of Groveland
Maps are available for inspection at the Town Hall, 183 Main Street, Groveland, MA 01834.
Town of Ipswich
Maps are available for inspection at the Town Hall, 25 Green Street, Ipswich, MA 01938.
Town of Manchester-by-the-Sea
Maps are available for inspection at the Town Hall, 10 Central Street, Manchester-by-the-Sea, MA 01944.
Town of Marblehead
Maps are available for inspection at Abbot Hall, 188 Washington Street, Marblehead, MA 01945.
Town of Middleton
Maps are available for inspection at Memorial Hall, 48 South Main Street, Middleton, MA 01949.
Town of Nahant
Maps are available for inspection at the Town Hall, 334 Nahant Road, Nahant, MA 01908.
Town of Newbury
Maps are available for inspection at the Municipal Offices, 25 High Road, Newbury, MA 01951.
Town of North Andover
Maps are available for inspection at the Town Hall, 120 Main Street, North Andover, MA 01845.
Town of Rowley
Maps are available for inspection at the Town Hall, 139 Main Street, Rowley, MA 01969.
Town of Salisbury
Maps are available for inspection at the Town Hall, 5 Beach Road, Salisbury, MA 01952.
Town of Swampscott
Maps are available for inspection at the Town Hall, 22 Monument Avenue, Swampscott, MA 01907.
Town of Topsfield
Maps are available for inspection at the Town Hall, 8 West Common Street, Topsfield, MA 01983.
Benton County, Tennessee, and Incorporated Areas
Docket No.: FEMA-B-1202
Big Sandy River Drainage Canal | Approximately 1.7 miles upstream of State Route 69A | +375 | Unincorporated Areas of Benton County.
| Approximately 0.5 mile upstream of U.S. Route 641 | +375
Burnside Creek | Approximately 150 feet downstream of Eva Road | +376 | City of Camden, Unincorporated Areas of Benton County.
| Approximately 0.4 mile upstream of Flatwoods Road | +441
Cane Creek | At the Cypress Creek confluence | +376 | City of Camden, Unincorporated Areas of Benton County.
| Approximately 0.6 mile upstream of Post Oak Road | +435
Charlie Creek | At the Cane Creek confluence | +377 | City of Camden, Unincorporated Areas of Benton County.
| Approximately 1,000 feet upstream of State Route 69A | +448
Cypress Creek | At the Cane Creek confluence | +376 | City of Camden, Unincorporated Areas of Benton County.
| Approximately 0.5 mile upstream of Old State Route 69 | +409
* National Geodetic Vertical Datum. + North American Vertical Datum. # Depth in feet above ground. ‸ Mean Sea Level, rounded to the nearest 0.1 meter.
ADDRESSES
City of Camden
Maps are available for inspection at City Hall, 110 U.S. Route 641 South, Camden, TN 38320.
Unincorporated Areas of Benton County
Maps are available for inspection at the Benton County Courthouse, 1 East Court Square, Room 104, Camden, TN 38320.
Kaufman County, Texas, and Incorporated Areas
Docket No.: FEMA-B-1144
Brooklyn Branch | At the confluence with Mustang Creek | +457 | City of Forney.
| Approximately 1,382 feet upstream of Ridgecrest Road | +471
Buffalo Creek | Just upstream of Union Pacific Railroad | +389 | City of Forney, Unincorporated Areas of Kaufman County.
| Just upstream of FM 740 | +403
Cedar Creek | Approximately 2.9 miles downstream of U.S. Route 175 | +342 | City of Mabank, Unincorporated Areas of Kaufman County.
| Approximately 1 mile downstream of State Highway 274 | +342
Duck Creek | Approximately 925 feet downstream of Country Road 337 | +458 | Unincorporated Areas of Kaufman County.
| Approximately 1,755 feet upstream of FM 2728 | +485
East Fork Trinity River | Just upstream of Union Pacific Railroad | +389 | City of Dallas, City of Heath, Unincorporated Areas of Kaufman County.
| Approximately 0.85 mile upstream of the Rockwell-Forney Dam | +398
Mustang Creek | Approximately 0.51 mile upstream of Shady Brook Lane | +413 | City of Forney, Unincorporated Areas of Kaufman County.
| Approximately 0.51 mile upstream of Ridgecrest Road | +480
Unnamed Tributary to Kings Creek | Approximately 1,600 feet upstream of the confluence with Kings Creek (Upper Reach) | +486 | City of Terrell, Unincorporated Areas of Kaufman County.
| Approximately 0.91 mile upstream of the confluence with Kings Creek (Upper Reach) | +506
* National Geodetic Vertical Datum. + North American Vertical Datum. # Depth in feet above ground. ‸ Mean Sea Level, rounded to the nearest 0.1 meter.
ADDRESSES
City of Dallas
Maps are available for inspection at 320 East Jefferson Boulevard, Room 307, Dallas, TX 75203.
City of Forney
Maps are available for inspection at City Hall, 101 West Main Street, Forney, TX 75126.
City of Heath
Maps are available for inspection at City Hall, 200 Laurence Drive, Heath, TX 75032.
City of Mabank
Maps are available for inspection at City Hall, 129 East Market Street, Mabank, TX 75147.
City of Terrell
Maps are available for inspection at City Hall, 201 East Nash Street, Terrell, TX 75160.
Unincorporated Areas of Kaufman County
Maps are available for inspection at the Kaufman County Courthouse, 100 West Mulberry Street, Kaufman, TX 75142.

(Catalog of Federal Domestic Assistance No. 97.022, “Flood Insurance.”)

Dated: May 3, 2012.
Sandra K. Knight,
Deputy Associate Administrator for Mitigation, Department of Homeland Security, Federal Emergency Management Agency.

[FR Doc. 2012-12292 Filed 5-21-12; 8:45 am]

BILLING CODE 9110-12-P